DEPARTMENT OF COMMERCE

National Oceanic and Atmospheric Administration

[I.D. 071306E]

Endangered Species; File No. 1570

AGENCY: National Marine Fisheries Service (NMFS), National Oceanic and Atmospheric Administration (NOAA), Commerce.

ACTION: Notice; receipt of application.

SUMMARY: Notice is hereby given that Southeast Fisheries Science Center (SEFSC), NMFS, 75 Virginia Beach Drive, Miami, Florida 33149, has applied in due form for a permit to take green (Chelonia mydas), loggerhead (Caretta caretta), Kemp's ridley (Lepidochelys kempii), hawsbill (Eretmochelys imbricata), olive ridley (Lepidochelys olivacea), and leatherback (Dermochelys coriacea) sea turtles for purposes of scientific research.

DATES: Written, telefaxed, or e-mail comments must be received on or before August 17, 2006.

ADDRESSES: The application and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Avenue South, St. Petersburg, FL 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1570.

FOR FURTHER INFORMATION CONTACT: Patrick Opay or Carrie Hubard, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The proposed research would evaluate modifications to commercial fishing gear to mitigate sea turtle interactions and capture. These evaluations and subsequent gear modifications would help to reduce incidental turtle bycatch in the gear types studied. By assessing those animals incidentally captured, the research would also provide new data to improve stock assessments, assess the impact of anthropogenic activities, better manage and, ultimately, recover these species. The research would take up to 253 loggerhead, 101 Kemp's ridley, 112 leatherback, 51 green, 37 hawksbill, 36 olive ridley sea turtles, and 88 unidentified hardshell species (e.g., a turtle that escaped from the gear before identification could be made). Animals would be handled, measured, weighed, photographed, flipper tagged, passive integrated transponder tagged, skin biopsied, and released. A subset of these animals would be captured by trawl research authorized by the permit. The research would take place in waters of the Atlantic Ocean, Gulf of Mexico, Caribbean Sea and their tributaries. The permit would be issued for 5 years.

Dated: July 13, 2006.
P. Michael Payne,
Chief, Permits, Conservation and Education Division, Office of Protected Resources, National Marine Fisheries Service.

[FR Doc. E6-11368 Filed 7-17-06; 8:45 am]

BILLING CODE 3510-22-S